DEPARTMENT OF COMMERCE

National Oceanic and Atmospheric Administration

Proposed Information Collection; Comment Request; Southeast Region Permit Family of Forms

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act (PRA) of 1995.

DATES: Written comments must be submitted on or before November 9, 2015.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Adam Bailey, National Marine Fisheries Service (NMFS), Southeast Regional Office (SERO), 263 13th Avenue S., St. Petersburg, FL 33701, (727) 824-5305, or adam.bailey@noaa.gov.

SUPPLEMENTARY INFORMATION:

I. Abstract

This request is for a revision to the existing reporting requirements that are currently approved under OMB Control No. 0648-0205, Southeast Region Permit Family of Forms, in association with the upcoming final rule, Regulation Identifier Number (RIN) 0648-BB02, Amendment 9 to the 2006 Consolidated Atlantic Highly Migratory Species (HMS) Fishery Management Plan (FMP) (Amendment 9), developed under the authority of the Magnuson-Stevens Fishery Conservation and Management Act, 16 U.S.C. 1801.

The final rule, RIN 0648-BB02, would implement a number of Atlantic shark and smoothhound shark management measures and would establish an effective date for previously-adopted smoothhound shark management measures finalized in Amendment 3 to the 2006 Consolidated Atlantic HMS FMP (Amendment 3) and the 2011 Final Rule to Modify the Retention of Incidentally-Caught Highly Migratory Species in Atlantic Trawl Fisheries. Among these previously-adopted smoothhound shark management measures is a commercial smoothhound shark permit requirement. The commercial smoothhound shark permitting requirement contained in this rule would become effective at a date specified after approval of this revision request.

In April 2011, NMFS submitted a PRA change request to the Office of Management and Budget (OMB) to add the commercial smoothhound shark permit to the existing HMS permit PRA package (OMB Control No. 0648-0327). OMB subsequently approved the change request to add the Federal commercial smoothhound shark permit to the HMS permit PRA package in May 2011. In July 2015, the commercial smoothhound shark permit was removed from the HMS permit PRA package (OMB Control No. 0648-0327) with the intention of transferring it to the Southeast Region Permit Family of Forms. This revision seeks to add this permit to OMB Control No. 0648-0205, because the SERO Permits Office will administer the smoothhound shark permit. The revision also addresses a new permit fee of $25 ($10 if issued in conjunction with another SERO-administered permit) related to SERO's administration of the permit and a more accurate estimate of the number of respondents, reducing the estimated number of respondents from 4,000, to 500 based on recent landings data.

Specifically for the smoothhound shark commercial permit, NMFS estimates 500 respondents to apply. If a respondent already holds a SERO-administered permit, applying for a smoothhound shark permit would only require checking an additional box on the permits application form, which would take approximately 10 seconds. If the respondent does not hold a SERO-administered permit, a new application must be filled out, which would take approximately 30 minutes. Thus, the total annual burden estimate is between 1.4 hours and 250 hours. It is likely that many respondents already hold a permit issued through the SERO Permits Office due to participation in other SERO fisheries (including other shark fisheries), thus, they would simply need to check a box on their existing form. However, at this time, NMFS does not have an estimate of the number of respondents who would apply for this permit and that already hold a permit administered through the SERO Permits Office, and therefore, for the purpose of this revision request, NMFS assumes the high estimate of 250 burden hours annually for the commercial smoothhound shark permit.

There is a $25 fee for a stand-alone commercial smoothhound shark permit or a $10 fee if issued in conjunction with another SERO-administered permit. Thus, the total annual cost to the public for the permit is between $12,500 if none of the 500 respondents hold another SERO-administered permit and $5,000 if all the respondents hold another SERO-administered permit. For the purpose of this revision request, NMFS assumes the high estimate of $12,500 in total annual costs for the commercial smoothhound shark permit.

The commercial smoothhound shark permit would add a maximum of 500 respondents, 250 burden hours, and $12,500 total annual costs to this information collection.

II. Method of Collection

Respondents have a choice of either electronic or paper forms. Methods of submittal include email of electronic forms, and mail and facsimile transmission of paper forms.

III. Data

OMB Control Number: 0648-0205.

Form Number(s): None.

Type of Review: Regular submission (revision of current information collection).

Affected Public: Business or other for-profit organizations.

Estimated Number of Respondents: 13,909.

Estimated Time per Response: 30 minutes.

Estimated Total Annual Burden Hours: 6,086 hours.

Estimated Total Annual Cost to Public: $457,378 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 3, 2015.
Sarah Brabson,
NOAA PRA Clearance Officer.

[FR Doc. 2015-22720 Filed 9-9-15; 8:45 am]

BILLING CODE 3510-22-P